ENVIRONMENTAL PROTECTION AGENCY

[FRL-7662-9]

Science Advisory Board Staff Office; Notification of Upcoming Science Advisory Board Meetings

AGENCY: Environmental Protection Agency.

ACTION: Notice.

SUMMARY: The Environmental Protection Agency (EPA), Science Advisory Board (SAB) Staff Office is announcing public meetings of the SAB Contaminated Sites and RCRA Multi-Year Plan Advisory Panel (CS and RCRA Panel), and the SAB Environmental Engineering Committee (EEC).

A. SAB CS and RCRA Panel Meetings

June 10, 2004. The SAB CS and RCRA Panel will meet by conference call from 2 p.m. to 5 p.m. (eastern time). The purpose of this call is to provide the Panel with an overview of the EPA's Resource Conservation and Recovery Act Multi-Year Plan and its Contaminated Sites Multi-Year Plan. The charge to the Panel will be presented and discussed on this call.

June 17, 2004. The SAB CS and RCRA Panel will meet by conference call from 2 p.m. to 5 p.m. (eastern time). The purpose of this call is to provide briefings relating to the two Multi-Year Plans that will help orient the Panel to the material.

June 24, 2004. The SAB CS and RCRA Panel will meet by conference call from 2 p.m. to 5 p.m. (eastern time). The purpose of this call is to continue the overview of the two Multi-Year Plans and to provide additional briefings relating to the two Multi-Year Plans to orient the Panel to the material.

July 7-9, 2004. The SAB CS and RCRA Panel will meet face-to-face starting Wednesday July 7 at 9:00, adjourning no later than 4 p.m. (eastern time) Friday July 9. The purpose of this meeting is to complete the Panel's advisory on the two multi-year plans.

August 5, 2004. The SAB CS and RCRA Panel will meet by conference call from 2 p.m. to 5 p.m. (eastern time). The purpose of this call is to finalize its advisory report on the two Multi-Year Plans.

B. SAB EEC Meeting.

July 6, 2004. The EEC will meet face-to-face from 1 p.m. to 5 p.m. (eastern time) to discuss potential FY2005 activities.

ADDRESSES: Participation in the teleconference meetings will be by teleconference only—a meeting room will not be used. The face-to-face meetings will be held at the Science Advisory Board Conference Center located at 1025 F Street, NW., Suite 3705, Washington, DC 20004.

FOR FURTHER INFORMATION CONTACT: Members of the public who wish to obtain the call-in number and access code to participate in the teleconference meetings may contact the EPA Science Advisory Board Staff at (202) 343-9999 by the Monday preceding the conference call. Any member of the public wishing further information may contact Ms. Kathleen White, Designated Federal Officer (DFO), via telephone/voice mail at (202) 343-9878, via e-mail at white.kathleen@epa.gov, or by mail at U.S. EPA SAB (1400F), 1200 Pennsylvania Ave., NW., Washington, DC, 20460. General information about the SAB can be found in the SAB Web Site at: http://www.epa.gov/sab.

SUPPLEMENTARY INFORMATION: Background on the Advisories: The EPA Office of Research and Development (ORD) has developed multi-year plans (MYPs) on selected topics to focus its research program on the highest priority issues and provide coordination for achieving long-term research goals. The Contaminated Sites MYP describes ORD problem-driven research supporting three Office of Solid Waste and Emergency Response (OSWER) trust fund programs for which research is authorized: Superfund (SF), Leaking Underground Storage Tank Corrective Action (LUST CA) and the Oil Spills Program. Contaminated Sites research is aligned in four long-term goals, with three of the goals based on the affected medium—sediment, ground water, and soil/land—and one goal for cross-cutting issues. The Resource Conservation and Recovery Act (RCRA) MYP focuses primarily on treatment processes for hard-to-treat chemicals; innovative containment technologies; resource conservation; and site-specific technical support and state-of-the-art methods, tools, and models for addressing priority RCRA management issues. ORD has requested an advisory from the SAB as to the soundness of the research plans.

The SAB Staff Office has determined that the advisory on these MYPs will be conducted by the SAB's Environmental Engineering Committee supplemented with experts from the SAB Ecological Processes and Effects Committee and the EPA Board of Scientific Counselors. Collectively these individuals will form the SAB Contaminated Sites and RCRA Multi-Year Plan Advisory Panel. A Panel roster and biosketches will be posted on the SAB Web Site at: http://www.epa.gov/sab. Public comment on the Panel will be accepted until June 7, 2004.

Availability of Meeting Materials: EPA ORD's Contaminated Sites Research Program Multi-Year Plan and Resource Conservation and Recovery Act Research Program Multi-Year Plan will be available electronically at the following URL address: http://www.epa.gov/osp/myp.htm. For information and any questions pertaining to the review documents, please contact Ms. Patricia Erickson, EPA-ORD, via telephone: (513) 569-7406 or e-mail: erickson.patricia@epa.gov.

Draft meeting agendas and the charge to the SAB CS and RCRA Panel will be posted on the SAB Web Site prior to the public meetings at: http://www.epa.gov/sab.

Procedures for Providing Public Comments. It is the policy of the SAB Staff Office to accept written public comments of any length, and to accommodate oral public comments whenever possible. The SAB expects that public statements presented at the meeting will not be repetitive of previously submitted oral or written statements. Oral Comments: In general, each individual or group requesting an oral presentation at a face-to-face meeting will be limited to a total time of ten minutes (unless otherwise indicated). Interested parties should contact the DFO in writing (email, fax or mail—see contact information above) by close of business the Thursday before the meeting in order to be placed on the public speaker list for the meeting. Speakers should bring at least 35 copies of their comments and presentation slides for distribution to the participants and the public at the meeting. Written Comments: Although written comments are accepted until the date of the meeting, written comments should be received in the SAB Staff Office at least one week prior to the meeting date so that the comments may be made available to the panel for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access this meeting, should contact the DFO at least five business days prior to the meeting so that appropriate arrangements can be made.

Dated: May 12, 2004.
Vanessa T. Vu,
Director, EPA Science Advisory Board Staff Office.

[FR Doc. 04-11112 Filed 5-14-04; 8:45 am]

BILLING CODE 6560-50-P